DEPARTMENT OF ENERGY

Federal Energy Regulatory Commission

[Docket No. EL03-212-000]

Ameren Services Company, et al.; Notice of Initiation of Proceedings and Refund Effective Dates

July 30, 2003.

On behalf of: Union Electric Company, Central Illinois Public Service Company.

American Electric Power Service Corporation on behalf of: Appalachian Power Company, Columbus Southern Power Company, Indiana Michigan Power Company, Kentucky Power Company, Kingsport Power Company, Ohio Power Company, Wheeling Power Company.

Dayton Power and Light Company.

Exelon Corporation on behalf of: Commonwealth Edison Company, Commonwealth Edison Company of Indiana, Inc.

FirstEnergy Corporation on behalf of: American Transmission Systems, Inc., Cleveland Electric Illuminating Power Company, Ohio Edison Company, Pennsylvania Power Company, Toledo Edison Company.

Illinois Power Company.

Northern Indiana Public Service Company.

Take notice that on July 23, 2003, the Commission issued an Order on Initial Decision in the above-captioned dockets that initiates proceedings in Docket No. EL03-212-000 under section 206 of the Federal Power Act.

The refund effective date in Docket No. EL03-212-000 pursuant to section 206(b) of the Federal Power Act is 60 days after publication of this notice in the Federal Register.

Magalie R. Salas,
Secretary.

[FR Doc. 03-19880 Filed 8-4-03; 8:45 am]

BILLING CODE 6717-01-P